COMMITTEE FOR PURCHASE FROM PEOPLE WHO ARE BLIND OR SEVERELY DISABLED

Procurement List; Proposed Additions and Deletions

AGENCY: Committee for Purchase from People Who Are Blind or Severely Disabled.

ACTION: Proposed additions to and deletions from Procurement List.

SUMMARY: The Committee is proposing to add to the Procurement List services to be furnished by nonprofit agencies employing persons who are blind or have other severe disabilities, and to delete products previously furnished by such agencies.

Comments Must Be Received on or Before: January 4, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited.

Commenters should identify the statement(s) underlying the certification on which they are providing additional information.

End of Certification

The following services are proposed for addition to Procurement List for production by the nonprofit agencies listed:

Services

Service Type/Location: Document Destruction, At the following Locations and for the Nonprofit Agencies Indicated: Camarillo Office, IRS (Including the Criminal Investigation Division), 751 Daily Drive, Camarillo, California.

NPA: Goodwill Industries of Southern California, Los Angeles, CA, El Centro Office, IRS, 1699 W. Main Street, El Centro, California.

NPA: Landmark Services, Inc., Santa Ana, California, El Monte Office, IRS (Including the Criminal Investigation Division), 9350 E. Flair Drive, El Monte, California.

NPA: Goodwill Industries of Southern California, Los Angeles, California, El Segundo Office, IRS (Including the Criminal Investigation Division), 222 N. Sepulveda Blvd., El Segundo, California.

NPA: Goodwill Industries of Southern California, Los Angeles, California, Glendale Office, IRS (Including the Criminal Investigation Division), 225 W. Broadway, Glendale, California.

NPA: Goodwill Industries of Southern California, Los Angeles, California, Laguna Niguel Office, IRS (Including the Criminal Investigation Division), 24000 Avila Road, Laguna Niguel, California.

NPA: Landmark Services, Inc., Santa Ana, California, Long Beach Office, IRS (Including the Criminal Investigation Division), 501 W. Ocean Blvd., Long Beach, California.

NPA: Landmark Services, Inc., Santa Ana, California, Los Angeles Office, IRS (Including the Criminal Investigation Division), 300 N. Los Angeles Street, Los Angeles, California.

NPA: Goodwill Industries of Southern California, Los Angeles, California, Norwalk Office, IRS, 12440 E. Imperial Highway, Norwalk, California.

NPA: Goodwill Industries of Southern California, Los Angeles, California, Palm Springs Office, IRS, 980 E. Tahquitz Canyon Way, Palm Springs, California.

NPA: Goodwill Industries of Southern California, Los Angeles, California, San Bernardino Office, IRS (Including the Criminal nvestigation Division), 290 N. “D” Street, San Bernardino, California.

NPA: Goodwill Industries of Southern California, Los Angeles, California, San Diego Office, IRS (Including the Criminal Investigation Division), 880 Front Street, and 701 “B” Street, San Diego, California.

NPA: Landmark Services, Inc., Santa Ana, California, San Marcos Office, IRS, 1 Civic Center Drive, San Marcos, California.

NPA: Landmark Services, Inc., Santa Ana, California, Santa Ana Office, IRS (Including the Criminal Investigation Division), 34 Civic Center Plaza, Santa Ana, California.

NPA: Landmark Services, Inc., Santa Ana, California, Van Nuys Office, IRS (Including the Criminal Investigation Division), 6230 Van Nuys Blvd., Van Nuys, California.

NPA: Goodwill Industries of Southern California, Los Angeles, California, Woodland Hills Office, IRS, 6340 Variel Ave, Woodlands Hills, California.

NPA: Goodwill Industries of Southern California, Los Angeles, California.

Contract Activity: IRS-Western Area Procurement Branch-APFW, San Francisco, California.

Service Type/Location: Mailing Services, Theodore Levin U.S. Courthouse, U.S. District Court, Eastern District of Michigan, Detroit, Michigan.

NPA: Jewish Vocational Service and Community Workshop, Southfield, Michigan.

Contract Activity: U.S. District Court, Detroit, Michigan.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Product/NSN: Detergent, General Purpose,

7930-01-055-6121.

NPA: Lighthouse for the Blind, St. Louis, Missouri.

Contract Activity: GSA, Southwest Supply Center, Fort Worth, Texas.

Product/NSN: Holder, Desk Memorandum,

7520-00-139-3802,

7520-00-290-6445.

NPA: Dallas Lighthouse for the Blind, Inc., Dallas, Texas.

Contract Activity: Office Supplies & Paper Products Acquisition Center, New York, New York.

Product/NSN: Sponge, Cellulose,

7920-00-559-8462.

NPA: Mississippi Industries for the Blind, Jackson, Mississippi.

Contract Activity: GSA, Southwest Supply Center, Fort Worth, Texas.

Product/NSN: Strap Set, Webbing,

5342-00-922-2480.

NPA: Huntsville Rehabilitation Foundation, Huntsville, Alabama.

Contract Activity: Defense Supply Center Richmond, Richmond, Virginia.

Sheryl D. Kennerly,
Director, Information Management.

[FR Doc. 03-30288 Filed 12-4-03; 8:45 am]

BILLING CODE 6353-01-P